DEPARTMENT OF DEFENSE

Office of the Secretary

[Transmittal No. 15-80]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-80 with attached Policy Justification.

Dated: March 1, 2016.
Aaron Siegel,
Alternate OSD Federal Register Liaison Officer, Department of Defense.

BILLING CODE 5001-06-P

BILLING CODE 5001-06-C

Transmittal No. 15-80

Notice of Proposed Issuance of Letter of Offer Pursuant to Section 36(b)(1) of the Arms Export Control Act, as amended

(i) Prospective Purchaser: The Government of Pakistan

(ii) Total Estimated Value:

Major Defense Equipment * | $564.68 million
Other | $134.36 million
TOTAL | $699.04 million

(iii) Description and Quantity or Quantities of Articles or Services Under Consideration for Purchase:

Major Defense Equipment (MDE):

Eight (8) F-16 Block 52 aircraft (two (2) C and six (6) D models), with the F100-PW-229 increased performance engine

Fourteen (14) Joint Helmet Mounted Cueing Systems (JHMCS)

Non-MDE items included in this request are eight (8) AN/APG-68(V)9 radars, and eight (8) ALQ-211(V)9 Advanced Integrated Defensive Electronic Warfare Suites (AIDEWS). Additionally, this possible sale includes spare and repair parts, support and test equipment, publications and technical documentation, personnel training and training equipment, U.S. Government and contractor engineering, technical and logistics support services, and other related elements of logistical and program support. The estimated cost of MDE is $564.68 million. The total estimated cost is $699.04 million.

(iv) Military Department: Air Force (X7-D-5A7)

(v) Prior Related Cases, if any: FMS Case SAF—$1.4B-24 Oct 06

(vi) Sales Commission, Fee, etc., Paid, Offered, or Agreed to be Paid: None

(vii) Sensitivity of Technology Contained in the Defense Article or Defense Services Proposed to be Sold: See Attached Annex

(viii) Date Report Delivered to Congress: 11 February 2016

* as defined in Section 47(6) of the Arms Export Control Act

POLICY JUSTIFICATION

The Government of Pakistan—F-16 Block 52 Aircraft

The Government of Pakistan has requested a possible sale of:

Major Defense Equipment (MDE):

Eight (8) F-16 Block 52 aircraft (two (2) C and six (6) D models), with the F100-PW-229 increased performance engine

Fourteen (14) Joint Helmet Mounted Cueing Systems (JHMCS)

Non-MDE items included in this request are eight (8) AN/APG-68(V)9 radars, and eight (8) ALQ-211(V)9 Advanced Integrated Defensive Electronic Warfare Suites (AIDEWS). Additionally, this possible sale includes spare and repair parts, support and test equipment, publications and technical documentation, personnel training and training equipment, U.S. Government and contractor engineering, technical and logistics support services, and other related elements of logistical and program support. The estimated cost of MDE is $564.68 million. The total estimated cost is $699.04 million.

This proposed sale contributes to U.S. foreign policy objectives and national security goals by helping to improve the security of a strategic partner in South Asia.

The proposed sale improves Pakistan's capability to meet current and future security threats. These additional F-16 aircraft will facilitate operations in all-weather, non-daylight environments, provide a self-defense/area suppression capability, and enhance Pakistan's ability to conduct counter-insurgency and counterterrorism operations.

This sale will increase the number of aircraft available to the Pakistan Air Force to sustain operations, meet monthly training requirements, and support transition training for pilots new to the Block-52. Pakistan will have no difficulty absorbing these additional aircraft into its air force.

The proposed sale of this equipment and support will not alter the basic military balance in the region.

Contractors have not been selected to support this proposed sale. There are no known offset agreements proposed in connection with this potential sale.

Implementation of this proposed sale will not require the assignment of any additional U.S. Government or contractor representatives to Pakistan.

There will be no adverse impact on U.S. defense readiness as a result of this proposed sale.

Transmittal No. 15-80

Notice of Proposed Issuance of Letter of Offer Pursuant to Section 36(b)(1) of the Arms Export Control Act

Annex

Item No. vii

(vii) Sensitivity of Technology:

1. This sale involves the release of sensitive technology to Pakistan. The F-l 6C/D Block 50/52 weapon system is UNCLASSIFIED, except as noted below. The aircraft uses the F-16 airframe and features advanced avionics and systems. It contains the Pratt and Whitney F-100-PW-229 engine, AN/APG-68V(9) radar, digital flight control system, external electronic warfare equipment, Advanced Identification Friend or Foe (AIFF), LINK-16 datalink, and software computer programs.

2. Sensitive and/or classified (up to SECRET) elements of the proposed F-16C/D include hardware, accessories, components, and associated software: AN/APG-68V(9) Radar, Have Quick I/II Radios, AN/APX-113 AIFF with Mode IV capability, AN/ALE-47 Countermeasures (Chaff and Flare) set, LINK-16 Advanced Data Link Group A provisions only, Embedded Global Positioning System/Inertial Navigation System, Joint Helmet-Mounted Cueing System (JHMCS), ALQ-21 l(V)9 Advanced Integrated Defensive Electronic Warfare Suite (AIDEWS) without Digital Radio Frequency Memory, AN/ALQ-213 Countermeasures Set, Modular Mission Computer, Have Glass I/II without infrared top coat, Digital Flight Control System, F-100 engine infrared signature, and Advanced Interference Blanker Unit. Additional sensitive areas include operating manuals and maintenance technical orders containing performance information, operating and test procedures, and other information related to support operations and repair. The hardware, software, and data identified are classified to protect vulnerabilities, design and performance parameters and other similar critical information.

3. The AN/APG-68(V)9 is the latest model of the APG-68 radar and was specifically designed for foreign military sales. This model contains the latest digital technology available for a mechanically scanned antenna, including higher processor power, higher transmission power, more sensitive receiver electronics, and an entirely new capability, Synthetic Aperture Radar (SAR), which creates higher resolution ground maps from a much greater distance than previous versions of the APG-68. Complete hardware is classified CONFIDENTIAL, major components and subsystems are classified CONFIDENTIAL, software is classified SECRET, and technical data and documentation are classified up to SECRET.

4. The AN/ARC-238 radio with HAVE QUICK II is a voice communications radio system. The AN/ARC-238 employs cryptographic technology that is classified SECRET. Classified elements include operating characteristics, parameters, technical data, and keying material.

5. The AN/APX-113 AIFF with Mode IV system is classified up to SECRET when operational evaluator parameters are loaded into the equipment. Classified elements of the AIFF system include software object code, operating characteristics, parameters, and technical data.

6. The Multifunctional Information Distribution System-Low Volume Terminal (MIDS-LVT) is an advanced Link-16 command, control, communications, and intelligence (C31) system incorporating high-capacity, jam-resistant, digital communication links for exchange of near real-time tactical information, including both data and voice, among air, ground, and sea elements. MIDS-LVT is intended to support key theater functions such as surveillance, identification, air control, weapons engagement coordination, and direction for all services and allied forces. The system will provide jamming-resistant, wide-area communications on a Link-16 network among MIDS and Joint Tactical Information Distribution System (JTIDS) equipped platforms. The MIDS/LVT and MIDS on Ship Terminal hardware, publications, performance specifications, operational capability, parameters, vulnerabilities to countermeasures, and software documentation are classified CONFIDENTIAL. The classified information to be provided consists of that which is necessary for the operation, maintenance, and repair (through intermediate level) of the data link terminal, installed systems, and related software.

7. The Joint Helmet Mounted Cueing System (JHMCS) is a modified HGU-55/P helmet that incorporates a visor-projected Heads-Up Display (HUD) to cue weapons and aircraft sensors to air and ground targets. A Helmet Vehicle Interface (HVI) interacts with the aircraft system bus to provide signal generation for the helmet display. This provides significant improvement for close combat targeting and engagement. The hardware is UNCLASSIFIED; technical data and documents are classified up to SECRET.

8. If a technologically advanced adversary were to obtain knowledge of the specific hardware or software source code in this proposed sale, the information could be used to develop countermeasures which might reduce weapon system effectiveness or be used in the development of systems with similar or advanced capabilities. The benefits to be derived from this sale in the furtherance of the U.S. foreign policy and national security objectives, as outlined in the Policy Justification, outweigh the potential damage that could result if the sensitive technology were revealed to unauthorized persons.

9. This sale is necessary in furtherance of the U.S. foreign policy and national security objectives outlined in the Policy Justification.

10. A determination has been made that the recipient country can provide the same degree of protection for the sensitive technology being released as the U.S. Government. This sale is necessary in furtherance of the U.S. foreign policy and national security objectives outlined in the Policy Justification.

11. All defense articles and services are approved for release to the Government of Pakistan.

[FR Doc. 2016-04860 Filed 3-3-16; 8:45 am]

BILLING CODE 5001-06-P